DEPARTMENT OF ENERGY

Federal Energy Regulatory Commission

[Docket No. CP22-491-001]

Natural Gas Pipeline Company of America LLC; Notice of Request for Extension of Time

Take notice that on September 29, 2023, Natural Gas Pipeline Company of America LLC (Natural) requested that the Federal Energy Regulatory Commission (Commission) grant an extension of time, until December 31, 2023, to complete construction of the Crawford Line #3 Make Piggable Project (Project) and place the Project facilities into service.

On July 19, 2022, Natural filed a prior notice application, pursuant to 18 CFR 157.205, 157.206. 157.208(b) and 157.216(b) of the Commission's regulations and its blanket certificate authority granted in Docket No. CP82-402-000 for Commission authorization of the Project.¹ On September 27, 2022, BNSF Railway Company (BNSF) filed a protest seeking additional information on the Project. Natural resolved the protest with BNSF on October 17, 2022, and the Project was deemed approved as of such date. Based on the Project approval date of October 17, 2022, Natural is required to complete Project-related construction by October 17, 2023. Natural states that its request for an extension of time is due to construction delays, and adverse weather conditions the Project has experienced, all as more fully discussed in its request for extension of time letter.

¹ Natural Gas Pipeline Company of America, 20 FERC ¶ 62,415 (1982).

As of September 29, 2023, Natural's Project construction is approximately 65 percent complete. However, given the remaining amount of work and potential for weather or other unforeseen delays, Natural does not believe it will be able to complete Project construction activities by October 17, 2023. As such, Natural is respectfully seeking a limited extension of time in which to complete Project construction activities. While Natural anticipates achieving mechanical completion of the Project by November 1, 2023, Natural is requesting an extension until December 31, 2023, to complete Project construction, accounting for potential delays.

This notice establishes a 15-calendar day intervention and comment period deadline. Any person wishing to comment on Natural's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act.⁵ At the time a pipeline requests an extension of time, orders on certificates of public convenience and necessity are final and the Commission will not re-litigate their issuance.⁶ The OEP Director, or his or her designee, will act on all of those extension requests that are uncontested.

² Contested proceedings are those where an intervenor disputes any material issue of the filing. 18 CFR 385.2201(c)(1) (2019).

³ Algonquin Gas Transmission, LLC, 170 FERC ¶ 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room. For assistance, contact FERC at FERCOnlineSupport@ferc.gov or call toll free, (886) 208-3676 or TTY (202) 502-8659.

The Commission strongly encourages electronic filings of comments in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5 p.m. Eastern Time on October 23, 2023.

Dated: October 6, 2023.
Kimberly D. Bose,
Secretary.

[FR Doc. 2023-22696 Filed 10-12-23; 8:45 am]

BILLING CODE 6717-01-P